DEPARTMENT OF ENERGY

Federal Energy Regulatory Commission

[Docket No. CP08-418-000]

Southeast Gas Storage, LLC; Notice of Intent To Prepare an Environmental Assessment for the Proposed Black Warrior Storage Project and Request for Comments on Environmental Issues

July 21, 2008.

The staff of the Federal Energy Regulatory Commission (FERC or Commission) will prepare an environmental assessment (EA) that will discuss the environmental impacts of the Black Warrior Storage Project involving construction and operation of facilities by Southeast Gas Storage, LLC (Southeast) in Monroe and Lowndes Counties, Mississippi.¹ These facilities would consist of new natural gas pipeline, abandonment by removal of existing pipeline, new existing injection/withdrawal wells, new gathering pipelines, a new salt water disposal pipeline, conversion of existing gas wells to observation wells, a new salt water disposal well, a new compressor station and a new meter station. This EA will be used by the Commission in its decision-making process to determine whether the project is in the public convenience and necessity.

¹ Southwest's application was filed with the Commission under section 7 of the Natural Gas Act and Part 157 of the Commission's regulations.

This notice announces the opening of the scoping process the Commission will use to gather input from the public and interested agencies on the project. Your input will help determine which issues need to be evaluated in the EA. Please note that the scoping period will close on August 20, 2008. Details on how to submit comments are provided in the Public Participation section of this notice.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Southwest provided to landowners. This fact sheet addresses a number of typically asked questions, including the use of eminent domain and how to participate in the Commission's proceedings. It is available for viewing on the FERC Internet Web site (www.ferc.gov).

Summary of the Proposed Project

Southeast proposes to convert a nearly depleted oil and gas reservoir into a high-deliverability natural gas storage facility approximately 3.5 miles northwest of Caledonia in Monroe and Lowndes Counties, Mississippi. The purpose of this project is to provide 24.7 billion cubic feet of working gas capacity to customers in the region. Southeast would achieve this capacity by drilling new withdrawal/injection wells, converting, reworking or plugging existing wells, constructing lateral and gathering pipelines, and installing new compression. Southeast proposes:

• 4.6 miles of new 24-inch-diameter lateral pipeline, designated the Line 547M-100 pipeline, replacing the existing 6-inch-diameter Line 547E-100 pipeline. The Line 547M-100 pipeline would extend from the Tennessee Gas Pipeline Company tie-ins to Southwest's proposed new Hamilton Compressor Station;

• Removal of 11,600 feet of the existing 6-inch-diameter Line 547E-100 pipeline;

• The new electric driven 24,000-horsepower Hamilton Compressor Station;

• 2.8 miles of 24-inch-diameter gathering pipelines from the proposed compressor station to seven well pads;

• 5,500 feet of 4.5-inch-diameter salt water disposal piping;

• 15 new horizontal withdrawal/injection wells and associated well pads;

• 4 existing active wells to be converted to observation wells;

• 9 plugged and abandoned wells to be converted to observation wells;

• 2 existing active wells to be plugged and abandoned;

• 2 existing active wells to convert to injection/withdrawal wells;

• 1 plugged and abandoned well to be re-plugged and abandoned;

• 1 new salt water disposal well and associated well pad;

• 1 plugged and abandoned stratigraphic test well drilled under a Commission exemption to be converted to an observation well;

• A new electrical substation; and

• The new Hamilton Meter Station and interconnect.

Southeast requests certification by December 31, 2008, for an in-service date of June 2010. The location of the project facilities is shown in Appendix 1.²

² The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of the proposed facilities would require disturbance of about 253 acres of widely distributed land surrounding the proposed Hamilton Compressor Station. This includes 200 acres under new permanent easement and 53 acres that would be restored to previous land use following construction.

Southeast would conduct well drilling, conversion, and abandonment on a combination of existing and new well pad sites. The 15 new wells would be constructed on 15 new individual well pad sites, at seven locations, with well pads ranging in size from 300 by 300 feet to 400 by 425 feet of permanent easement. One new salt water disposal well would be constructed within a 300 by 300-foot area of new permanent easement. The proposed Hamilton Compressor Station and associated electrical substation would occupy a 27-acre area of new permanent easement. The proposed meter station would occupy 0.6 acre of new permanent easement. The proposed Line 547M-100 pipeline and the gathering pipelines would be constructed with a 75-foot-wide typical construction width within a 50-foot-wide new permanent right-of-way. Southeast would abandon by removal all of the existing 11,000-foot-long Line 547E-100 pipeline, which would be replaced in the same trench with the proposed Line 547M-100 pipeline. Construction and operation of the salt water disposal pipeline would require 50 and 25 feet of right-of-way width, respectively. The combined pipeline construction would require 83 acres of disturbance. Extra work spaces along the pipelines and well pad areas, contractor yards, horizontal directional drill sites and access roads would disturb 23 acres of temporary right-of-way.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ³ will discuss impacts that could occur as a result of the construction and operation of the proposed project under these general headings:

³ “We”, “us”, and “our” refer to the environmental staff of the Office of Energy Projects (OEP).

• Geology and soils

• Water resources

• Wetlands and fisheries

• Vegetation and wildlife

• Threatened and endangered species

• Land use

• Cultural resources

• Air quality and noise

• Reliability and safety, and

• Cumulative impacts

We will also evaluate reasonable alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Southeast. This preliminary list of issues may be changed based on your comments and our analysis.

• Cultural resources may be affected by the project.

• Federally listed threatened and endangered species are present in the project area.

• The Hamilton Compressor Station may have visual impacts.

• Route variations for the Line 547M-100 pipeline will be studied.

Public Participation

You can make a difference by providing us with your specific comments or concerns about the Black Warrior Storage Project. Your comments should focus on the potential environmental effects, reasonable alternatives, and measures to avoid or lessen environmental impacts. The more specific your comments, the more useful they will be. To ensure that your comments are timely and properly recorded, please send in your comments so that they will be received in Washington, DC on or before August 20, 2008.

For your convenience, there are three methods which you can use to submit your comments to the Commission. In all instances please reference the project docket number CP08-418-000 with your submission. The Commission encourages electronic filing of comments and has dedicated eFiling expert staff available to assist you at 202-502-8258 or efiling@ferc.gov:

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing”; or

(3) You may file your comments via mail to the Commission by sending an original and two copies of your letter to: Kimberly D. Bose, Secretary, Federal Energy Regulatory Commission, 888 First St., NE., Room 1A, Washington, DC 20426.

Label one copy of the comments for the attention of Gas Branch 2, PJ11.2.

As described above, we may publish and distribute the EA for comment. If you are interested in receiving an EA for review and/or comment, please return the Environmental Mailing List Form (Appendix 3). If you do not return the Environmental Mailing List Form, you will be taken off the mailing list.

Becoming an Intervenor

In addition to involvement in the EA scoping process, you may want to become an official party to the proceeding, or “intervenor”. To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 2, to express their interest in becoming cooperating agencies for the preparation of the EA.

Additional Information

Additional information about the project is available from the Commission's Office of External Affairs, at 1-866-208-FERC (3372) or on the FERC Internet Web site (http://www.ferc.gov) using the eLibrary link. Click on the eLibrary link, click on “General Search” and enter the docket number excluding the last three digits (i.e., enter PF06-398) in the Docket Number field. Be sure you have selected an appropriate date range. For assistance, please contact FERC Online Support at FERCOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Finally, public meetings or site visits will be posted on the Commission's calendar located at http://www.ferc.gov/EventCalendar/EventsList.aspx along with other related information.

Kimberly D. Bose,
Secretary.

[FR Doc. E8-17157 Filed 7-25-08; 8:45 am]

BILLING CODE 6717-01-P